FEDERAL MARITIME COMMISSION

[Docket No. 17-05]

CMI Distribution Inc. v. Service by Air, Inc., Radiant Customs Services Inc. (Formerly Known as SBA Consolidators, Inc.) and Las Freight Systems Ltd.; Notice of Filing of Complaint and Assignment

Notice is given that a complaint has been filed with the Federal Maritime Commission (Commission) by CMI Distribution Inc., hereinafter “Complainant,” against Service by Air, Inc., Radiant Customs Services Inc., (formerly known as SBA Consolidators, Inc.), and Las Freight Systems Ltd., hereinafter “Respondents.” Complainant states it is a “corporation organized and existing under the laws of Illinois.” Complainant alleges that: Respondent Service by Air, Inc. is a “corporation organized and existing under the laws of New York” and was “an OTI . . . subject to regulation by the FMC”; Respondent Radiant Customs Services Inc. is a “corporation organized and existing under the laws of New York” and a Commission licensed non-vessel-operating common carrier (NVOCC); and Respondent Las Freight Systems Ltd. “is a Taiwanese private limited company” and a Commission registered NVOCC.

Complainant states that they “engaged Respondents to provide transportation of more than 60 shipments (the Shipments)” from China to Illinois between April 2014 and June 2015. Complainant alleges that they “assessed more than $400,000 in demurrage or storage fees associated with the Shipments,” but the Respondents “have been unwilling to provide details regarding the amounts of demurrage or storage fees charged” regarding those shipments. Complainant states that while it “repeatedly questioned and challenged the level of demurrage charges on the Shipments, it was forced to pay those charges in order to gain release of the shipments.” Complainant alleges that the Respondents violated the Shipping Act by acting as an OTI without a license in the case of Respondent Service by Air in violation of 46 U.S.C. 40901, failure to observe just and reasonable practices in violation of 46 U.S.C. 41102 (c), failure to provide service in accordance with rates, charges, and rules contained in a published tariff in violation of 46 U.S.C. 41102(2)(c), and failure to maintain a tariff in violation of 46 U.S.C. 40501.

Complainant seeks reparations and other relief. The full text of the complaint can be found in the Commission's Electronic Reading Room at www.fmc.gov/17-05/.

This proceeding has been assigned to the Office of Administrative Law Judges. The initial decision of the presiding officer in this proceeding shall be issued by May 31, 2018, and the final decision of the Commission shall be issued by December 14, 2018.

Rachel E. Dickon,
Assistant Secretary.

[FR Doc. 2017-11626 Filed 6-5-17; 8:45 am]

BILLING CODE 6731-AA-P